ENVIRONMENTAL PROTECTION AGENCY

[OPP-181078; FRL-6757-7]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period December 1999 to November 2000 to control unforseen pest outbreaks.

FOR FURTHER INFORMATION CONTACT: See each emergency exemption or denial for the name of a contact person. The following information applies to all contact persons: Team Leader, Emergency Response Team, Registration Division (7505C), Office of Pesticide Programs, Environmental Protection Agency, Ariel Rios Bldg., 1200 Pennsylvania Ave., NW., Washington, DC 20460; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you petition EPA for authorization under section 18 of FIFRA to use pesticide products which are otherwise unavailable for a given use. Potentially affected categories and entities may include, but are not limited to:

Categories | NAICS codes | Examples of potentially affected entities
Federal Government | 9241 | Federal agencies that petition EPA for section 18 pesticide use authorization
State and Territorial government agencies charged with pesticide authority |  | State agencies that petition EPA for section 18 pesticide use authorization

This listing is not intended to be exhaustive, but rather provides a guide for readers regarding entities likely to be regulated by this action. Other types of entities not listed in the table in this unit could also be regulated. The North American Industrial Classification System (NAICS) codes have been provided to assist you and others in determining whether or not this action applies to certain entities. If you have any questions regarding the applicability of this action to a particular entity, consult the person listed under FOR FURTHER INFORMATION CONTACT.

B. How Can I Get Additional Information or Copies of this Document or Other Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number OPP-181078. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific. EPA authorized the use of norflurazon on bermudagrass to control annual grassy weeds; 2/24/00 to 7/31/00. Contact: (Libby Pemberton)

EPA authorized the use of coumaphos in beehives to control varroa mites and small hive beetles; 3/17/00 to 2/1/01. Contact: (Barbara Madden)

EPA authorized the use of diuron in/on catfish ponds to control blue-green algae; 05/22/00 to 11/30/00. Contact: (David Deegan)

EPA authorized the use of emamectin benzoate on cotton to control beet armyworms and tobacco budworms; 7/13/00 to 9/30/00. Contact: (Andrea Conrath)

EPA authorized the use of tebufenozide on pastures to control fall armyworms; 7/17/00 to 10/31/00. Contact: Barbara Madden

Arizona

Department of Agriculture

Crisis. On 1/21/00, for the use of imidacloprid on turnip greens to control aphids. This program is expected to end on 1/20/01. Contact: (Andrew Ertman)

Specific. EPA authorized the use of imidacloprid on turnip greens to control aphids; 1/21/00 to 1/20/01. Contact: (Andrew Ertman)

EPA authorized the use of buprofezin on cotton to control whiteflies; 6/14/00 to 9/30/00. Contact: (Andrea Conrath)

EPA authorized the use of buprofezin on cucurbits to control whiteflies; 7/15/00 to 7/14/01. Contact: (Andrea Conrath)

EPA authorized the use of metolachlor on spinach to control weeds; 9/8/00 to 5/15/01. Contact: (Andrew Ertman)

EPA authorized the use of coumaphos in beehives to control varroa mites and small hive beetles; 9/22/00 to 2/1/01. Contact: (Barbara Madden)

Arkansas

State Plant Board

Crisis. On 3/1/00, for the use of norflurazon on bermudagrass pastures to control annual grassy weeds. This program ended on 9/15/00. Contact: (Libby Pemberton)

On 5/26/00, for the use of sodium chlorate on wheat to control weeds. This program ended on 6/15/00. Contact: (Libby Pemberton)

Denial. On 3/30/00 EPA denied the use of fenoxyprop-p-ethyl on rice to control Barnyardgrass and other annual weeds. This request was denied based upon the Agency's inability, at this time, to reach a “reasonable certainty of no harm” finding regarding health effects which may result if this use were to occur, an inability to assess ecological effects of the proposed use, and finally that the Agency did not conclude that this emergency situation required use of multiple products to attain adequate control of the pest situation. EPA did allow emergency use of an alternative chemical under provisions of section 18. Contact: (David Deegan).

On 3/30/00 EPA denied the use of bispyribac-sodium on rice to control Barnyardgrass and other annual weeds. This request was denied based upon the Agency's inability, at this time, to reach a “reasonable certainty of no harm” finding regarding health effects which may result if this use were to occur, an inability to assess ecological effects of the proposed use, and finally that the Agency did not conclude that this emergency situation required use of multiple products to attain adequate control of the pest situation. EPA did allow emergency use of an alternative chemical under provisions of section 18. Contact: (David Deegan).

Specific. EPA authorized the use of clomazone on rice to control Barnyardgrass and other annual weeds; 3/07/00 to 6/01/00. Contact: (David Deegan)

EPA authorized the use of norflurazon on bermudagrass to control annual grassy weeds; 3/9/00 to 9/15/00. Contact: (Libby Pemberton)

EPA authorized the use of fomesafen on snapbeans to control broadleaf weeds; 4/4/00 to 9/15/00. Contact: (Andrea Conrath)

EPA authorized the use of diuron in/on catfish ponds to control blue-green algae; 05/22/00 to 11/30/00. Contact: (David Deegan)

EPA authorized the use of carbofuran on cotton to control aphids; 6/02/00 to 9/30/00. Contact: (David Deegan)

EPA authorized the use of coumaphos in beehives to control varroa mites and small hive beetles; 6/4/00 to Febraury 1/01. Contact: (Barbara Madden)

EPA authorized the use of methoxyfenozide in/on cotton to control beet armyworm; 6/5/00 to 10/1/00. Contact: (Dan Rosenblatt)

EPA authorized the use of indoxacarb in/on cotton to control beet armyworm and tobacco budworm; 6/15/00 to 10/31/00. Contact: (Dan Rosenblatt)

EPA authorized the use of emamectin benzoate on cotton to control beet armyworm and tobacco budworm; 7/13/00 to 9/30/00. Contact: (Andrea Conrath)

EPA authorized the use of spinosad on pastureland and rangeland to control armyworms; 11/8/00 to 12/31/00. Contact: (Andrew Ertman)

California

Environmental Protection Agency, Department of Pesticide Regulation

Crisis. On 6/29/00, for the use of methoprene on figs, grapes, pistachios, and prunes to control red imported fire ants. This program is expected to end on 12/26/00. Contact: (Libby Pemberton)

On 9/21/00, for the postharvest use of fenhexamid on pears to control gray mold. This program ended on 10/1/00. Contact: (Steve Schaible)

Quarantine. EPA authorized the use of spinosad in state-wide suppression and eradication programs to control the olive fruit fly; 12/22/99 to 12/22/02. Contact: (Dan Rosenblatt)

Specific. EPA authorized the use of zinc phosphide on alfalfa, not exceeding new growth of 2 inches to control California and montane voles; 1/19/00 to 1/19/01. Contact: (Libby Pemberton)

EPA authorized the use of imidacloprid on citrus to control the glassy-winged sharpshooter; 2/23/00 to 4/30/00. Contact: (Andrew Ertman)

EPA authorized the use of fludioxonil on peaches, nectarines, apricots and plums to control brown rot, gray mold rot, and Rhizopus rot; 5/1/00 to 11/1/00. Contact: (Andrew Ertman)

EPA authorized the use of tebufenozide on wine grapes to control Omnivorous leafroller and Grape leaffolder; 5/1/00 to 9/1/00. Contact: (Barbara Madden)

EPA authorized the use of hexythiazox on dates to control Banks grass mites; 5/15/00 to 6/30/00. Contact: (David Deegan)

EPA authorized the use of hexythiazox on cotton to control spider mites; 5/15/00 to 8/01/00. Contact: (David Deegan)

EPA authorized the use of carbofuran on cotton to control aphids; 6/02/00 to 10/15/00. Contact: (David Deegan)

EPA authorized the use of propamocarb hydrochloride on tomatoes to control late blight; 6/5/00 to 6/5/01. Contact: (Libby Pemberton)

EPA authorized the use of buprofezin on cotton to control whiteflies; 6/14/00 to 10/15/00. Contact: (Andrea Conrath)

EPA authorized the use of indoxacarb on cotton to control beet armyworm; 6/15/00 to 10/31/00. Contact: (Dan Rosenblatt)

EPA authorized the use of buprofezin on cucurbits to control whiteflies; 6/15/00 to 11/01/00. Contact: (Andrea Conrath)

EPA authorized the use of avermectin on basil to control leafminer; 6/30/00 to 10/31/00. Contact: (Dan Rosenblatt)

EPA authorized the use of coumaphos in beehives to control varroa mites and small hive beetles; 7/20/00 to 2/1/01. Contact: (Barbara Madden)

EPA authorized the use of myclobutanil on peppers (bell and non-bell) to control powdery mildew; 8/16/00 to 8/17/01. Contact: (David Deegan)

EPA authorized the use of myclobutanil on artichokes to control powdery mildew; 8/17/00 to 8/17/01. Contact: (David Deegan)

EPA authorized the use of hexythiazox on strawberry to control two-spotted spider mites; 8/17/00 to 5/30/01. Contact: (David Deegan)

EPA authorized the use of paraquat dichloride on artichokes to control weeds and grasses; 9/1/00 to 8/31/01. Contact: (Libby Pemberton)

EPA authorized the use of imidacloprid on strawberries to control whiteflies; 9/08/00 to 9/08/01. Contact: (Andrea Conrath)

EPA authorized the use of imidacloprid on garden beets and turnip greens to control aphids; 10/19/00 to 9/11/01. Contact: (Andrew Ertman)

EPA authorized the use of avermectin on celeriac to control two-spotted spider mite; 10/18/00 to 10/18/01. Contact: (Dan Rosenblatt)

EPA authorized the use of tebufenozide on table beets to control armyworms; 10/27/00 to 8/28/01. Contact: (Andrew Ertman)

EPA authorized the use of spinosad on sugarbeets to control armyworms; 10/31/00 to 8/7/01. Contact: (Andrew Ertman)

Colorado

Department of Agriculture

Specific. EPA authorized the use of imidacloprid on sweet corn seed to control flea beetles; 2/16/00 to 12/10/00. Contact: (Andrew Ertman)

EPA authorized the use of metolachlor on spinach to control weeds; 3/28/00 to 8/31/00. Contact: (Andrew Ertman)

EPA authorized the use of lambda-cyhalothrin on barley to control the Russian wheat aphid; 4/18/00 to 7/15/00. Contact: (Andrew Ertman)

EPA authorized the use of imazamox on dry bean to control various nightshade species and velvetleaf; 6/1/00 to 7/15/00. Contact: (Barbara Madden)

EPA authorized the use of tetraconazole on sugarbeets to control Cercospora leafspot; 6/7/00 to 9/30/00. Contact: (David Deegan)

EPA authorized the use of tebuconazole on sunflowers to control rust; 7/1/00 to 8/31/00. Contact: (Steve Schaible)

EPA authorized the use of coumaphos in beehives to control varroa mites and small hive beetles; 9/1/00 to 2/1/01. Contact: (Barbara Madden)

Connecticut

Department of Environmental Protection

Specific. EPA authorized the use of propiconazole on blueberries to control mummy berry disease; 3/15/00 to 6/1/00. Contact: (Steve Schaible)

EPA authorized the use of coumaphos in beehives to control varroa mites and small hive beetles; 7/27/00 to 2/1/01. Contact: (Barbara Madden)

Delaware

Department of Agriculture

Specific. EPA authorized the use of fomesafen on snap beans to control broad leaf weeds; 3/01/00 to 9/30/00. Contact: (Andrea Conrath)

EPA authorized the use of coumaphos in beehives to control varroa mites and small hive beetles; 3/8/00 to 2/1/01. Contact: (Barbara Madden)

EPA authorized the use of terbacil on watermelon to control morning glory and other annual broadleaf weeds; 4/3/00 to 6/15/00. Contact: (David Deegan)

EPA authorized the use of clomazone on watermelon to control broadleaf weeds; 4/6/00 to 6/30/00. Contact: (David Deegan)

EPA authorized the use of imidacloprid on stone fruit to control aphids; 6/14/00 to 10/15/00. Contact: (Andrew Ertman)

EPA authorized the use of clopyralid on peaches and nectarine to control weeds that serve as alternate hosts for plum pox virus or are refugia for the green peach aphid, the vector of this virus; 7/26/00 to 12/1/00. Contact: (Barbara Madden)

EPA authorized the use of metolachlor on spinach to control weeds; 9/25/00 to 5/1/01. Contact: (Andrew Ertman)

Florida

Department of Agriculture and Consumer Services

Denial. On 9/30/00 EPA denied the use of fenbuconazole on citrus (except grapefruit) to control greasy spot disease. This request was denied because the information submitted by the Applicant did not support the claims of an urgent and non-routine (emergency) condition. Nor did the available information show that significant economic losses would occur. In contrast to grapefruit, the other citrus crops are not as susceptible to greasy spot disease, their prices are stable, and only 4-10% of the total production is marketed as fresh produce. Additionally, the information given does not demonstrate that losses of the magnitude estimated for grapefruit are likely to occur in the other citrus crops. Contact: (Andrea Conrath)

Specific. EPA authorized the use of coumaphos in beehives to control varroa mites and small hive beetles; 1/20/00 to 1/18/01. Contact: (Barbara Madden)

EPA authorized the use of tebufenozide on lychee and longan to control Lychee webworms; 3/2/00 to 3/1/01. Contact: (Barbara Madden)

EPA authorized the use of bifenthrin on citrus to control Diaprepes root weevil; 3/02/00 to 3/01/01. Contact: (Andrea Conrath)

EPA authorized the use of hexythiazox on strawberry to control two-spotted mites; 3/24/00 to 3/24/01. Contact: (David Deegan)

EPA authorized the use of fenbuconazole on grapefruit to control greasy spot disease; 5/5/00 to 5/4/01. Contact: (Andrea Conrath)

EPA authorized the use of buprofezin on tomatoes to control the Silverleaf Whitefly; 6/2/00 to 6/1/01. Contact: (Andrew Ertman)

EPA authorized the use of imidacloprid on citrus to control brown citrus aphid and citrus leafminer; 6/30/00 to 6/30/01. Contact: (Andrew Ertman)

EPA authorized the use of azoxystobin on strawberries to control anthranose; 9/29/00 to 5/31/01. Contact: (Libby Pemberton)

Georgia

Department of Agriculture

Specific. EPA authorized the use of fenbuconazole on blueberries to control mummy berry disease; 1/7/00 to 7/1/00. Contact: (Dan Rosenblatt)

EPA authorized the use of coumaphos in beehives to control varroa mites and small hive beetles; 1/20/00 to 1/18/01. Contact: (Barbara Madden)

Hawaii

Department of Agriculture

Crisis. On 5/05/00, for the use of myclobutanil on watermelon to control powdery mildew. The emergency exemption provision of this program will end when newly-labeled product is available, reflecting the fact that this chemical now has permanent tolerances for residues on this commodity. Contact: (David Deegan)

Specific. EPA authorized the use of hydramethylnon on pineapples to control ants; 2/14/2000 to 2/14/2001. Contact: (Libby Pemberton)

Idaho

Department of Agriculture

Crisis. On 12/10/99, for the use of imidacloprid on sweet corn seed to control corn flea beetles. This program is expected to end on 12/10/00. Contact: (Andrew Ertman)

On 5/19/00, for the use of fluroxypyr on sweet corn to control volunteer potatoes. This program ended on 6/2/00. Contact: (Andrew Ertman)

On 6/9/00, for the use of fluroxypyr on field corn to control volunteer potatoes. This program ended on 8/1/00. Contact: (Andrew Ertman)

Denial. On 7/28/00 EPA denied the use of cyhexatin on hops to control the two-spotted spider mite. This request was denied because the Agency had inadequate data to conclude that the use would not pose an unreasonable adverse effect to persons occupationally exposed to the chemical. Contact: (Dan Rosenblatt).

Specific. EPA authorized the use of imidacloprid on sweet corn seed to control corn flea beetles; 12/10/99 to 12/10/00. Contact: (Andrew Ertman)

EPA authorized the use of pendimethalin on mint to control kochia and redroot pigweed; 2/1/00 to 12/31/00. Contact: (Steve Schaible)

EPA authorized the use of coumaphos in beehives to control varroa mites and small hive beetles; 2/2/00 to 2/1/01. Contact: (Barbara Madden)

EPA authorized the seed treatment use of fosetyl-Al on peas to control downy mildew; 2/10/00 to 4/30/00. Contact: (Steve Schaible)

EPA authorized the use of cymoxanil on hops to control downy mildew; 3/6/2000 to 9/15/2000. Contact: (Libby Pemberton)

EPA authorized the use of thiabendazole on lentil seeds to control Ascochyta Blight; 3/17/00 to 6/1/00. Contact: (Andrea Conrath)

EPA authorized the use of tebuconazole on barley to control barley stripe rust; 3/30/00 to 8/15/00. Contact: (Steve Schaible)

EPA authorized the use of zinc phosphide on barley, wheat, sugarbeets, and potatoes to control meadow voles and field mice; 4/11/00 to 10/1/00. Contact: (Libby Pemberton)

EPA authorized the use of oxytetracycline on apples to control fire blight; 4/11/00 to 8/1/00. Contact: (Andrea Conrath)

EPA authorized the use of myclobutanil on hops to control powdery mildew; 4/13/00 to 9/22/00. Contact: (David Deegan)

EPA authorized the use of tebuconazole on hops to control powdery mildew; 4/13/00 to 9/22/00. Contact: (David Deegan)

EPA authorized the use of trifloxystrobin on hops to control powdery mildew; 4/13/00 to 9/22/00. Contact: (David Deegan)

EPA authorized the use of pyridate on mint to control redroot pigweed and kochia; 4/15/00 to 12/31/00. Contact: (Barbara Madden)

EPA authorized the use of myclobutanil on mint to control powdery mildew; 4/26/00 to 12/31/00. Contact: (David Deegan)

EPA authorized the use of lambda-cyhalothrin on barley to control the Russian wheat aphid; 5/1/00 to 7/30/00. Contact: (Andrew Ertman)

EPA authorized the use of imazamox on canola to control mustard; 5/1/00 to 7/15/00. Contact: (Barbara Madden)

EPA authorized the use of imazamox on dry beans to control various nightshade species; 5/1/00 to 7/31/00. Contact: (Barbara Madden)

EPA authorized the use of clopyralid on canola to control Canada thistle; 5/5/00 to 7/31/00. Contact: (Libby Pemberton)

EPA authorized the use of paraquat dichloride on green and dried peas grown for seed to control weeds; 5/30/00 to 11/30/00. Contact: (Libby Pemberton)

EPA authorized the use of fluroxypyr on field corn to control volunteer potatoes; 6/9/00 to 8/1/00. Contact: (Andrew Ertman)

EPA authorized the use of propamocarb hydrochloride on potatoes to control late blight; 7/13/00 to 7/13/01. Contact: (Libby Pemberton)

EPA authorized the use of difenoconazole on sweet corn seed to control fungal pathogens; 8/31/00 to 9/01/01. Contact: (Andrea Conrath)

EPA authorized the use of chlorine dioxide on stored potatoes to control late blight; 8/31/00 to 8/31/01. Contact: (Andrew Ertman)

EPA authorized the use of flufenacet on wheat to control annual ryegrass; 10/5/00 to 6/30/01. Contact: (Barbara Madden)

EPA authorized the use of imidacloprid on sweet corn seed to control the corn flea beetle; 12/11/00 to 12/10/01. Contact: (Andrew Ertman)

Illinois

Department of Agriculture

Specific. EPA authorized the use of coumaphos in beehives to control varroa mites and small hive beetles; 4/4/00 to 2/1/01. Contact: (Barbara Madden)

EPA authorized the use of fomesafen on snap beans to control various weed species; 6/16/00 to 9/18/00. Contact: (Andrea Conrath)

Indiana

Office of Indiana State Chemist

Crisis. On 5/16/00, for the use of fomesafen on snap beans to control various weed species. This program ended on 8/30/00. Contact: (Andrea Conrath)

Specific. EPA authorized the use of fenbuconazole on blueberries to control mummy berry disease; 3/17/00 to 9/1/00. Contact: (Dan Rosenblatt)

EPA authorized the use of coumaphos in beehives to control varroa mites and small hive beetles; 4/4/00 to 2/1/01. Contact: (Barbara Madden)

EPA authorized the use of metolachlor on tomatoes to control eastern black nightshade; 4/13/00 to 7/1/00. Contact: (Andrew Ertman)

EPA authorized the use of pyridate on mint to control redroot pigweed and kochia; 4/15/00 to 12/31/00. Contact: (Barbara Madden)

EPA authorized the use of fomesafen on snap beans to control various weed species; 6/16/00 to 8/30/00. Contact: (Andrea Conrath). Indiana had declared a crisis for this use on 5/16/00.

Iowa

Department of Agriculture and Land Stewardship

Specific. EPA authorized the use of coumaphos in beehives to control varroa mites and small hive beetles; 3/8/00 to 2/1/01. Contact: (Barbara Madden)

Kansas

Department of Agriculture

Crisis. On 9/8/00, for the use of spinosad on alfalfa to control armyworms. This program ended on 10/10/00. Contact: (Andrew Ertman)

Specific. EPA authorized the use of coumaphos in beehives to control varroa mites and small hive beetles; 2/7/00 to 2/1/01. Contact: (Barbara Madden)

EPA authorized the use of propiconazole on sorghum to control sorghum ergot; 5/10/00 to 12/31/00. Contact: (Steve Schaible)

EPA authorized the use of metsulfuron-methyl on sorghum to control weeds; 5/22/00 to 8/15/00. Contact: (Andrew Ertman)

EPA authorized the use of tebuconazole on sunflowers to control rust; 6/16/00 to 9/15/00. Contact: (Steve Schaible)

EPA authorized the use of propiconazole on dry beans to control rust; 6/16/00 to 8/15/00. Contact: (Steve Schaible)

EPA authorized the use of bifenthrin on seed sorghum to control spider mites; 7/06/00 to 9/30/00. Contact: (Andrea Conrath)

EPA authorized the use of spinosad on alfalfa to control armyworms; 9/8/00 to 10/10/00. Contact: (Andrew Ertman)

Kentucky

Department of Agriculture

Specific. EPA authorized the use of coumaphos in beehives to control varroa mites and small hive beetles; 11/03/00 to 2/1/01. Contact: (Barbara Madden)

Louisiana

Department of Agriculture and Forestry

Denial. On 3/30/00 EPA denied the use of fenoxyprop-p-ethyl on rice to control Barnyardgrass and other annual weeds. This request was denied based upon the Agency's inability, at this time, to reach a “reasonable certainty of no harm” finding regarding health effects which may result if this use were to occur, an inability to assess ecological effects of the proposed use, and finally that the Agency did not conclude that this emergency situation required use of multiple products to attain adequate control of the pest situation. EPA did allow emergency use of an alternative chemical under provisions of section 18. Contact: (David Deegan).

On 3/30/00 EPA denied the use of bispyribac-sodium on rice to control Barnyardgrass and other annual weeds. This request was denied based upon the Agency's inability, at this time, to reach a “reasonable certainty of no harm” finding regarding health effects which may result if this use were to occur, an inability to assess ecological effects of the proposed use, and finally that the Agency did not conclude that this emergency situation required use of multiple products to attain adequate control of the pest situation. EPA did allow emergency use of an alternative chemical under provisions of section 18. Contact: (David Deegan).

On 4/20/00 EPA denied the use of tebufenozide on rice to control fall armyworms. This request was denied because the situation is routine, not urgent, and growers are not likely to suffer from significant economic losses. The State provided no data that demonstrate that currently registered alternatives do not effectively control fall armyworms on rice. Contact: (Barbara Madden).

On 5/12/00 EPA denied the use of anthraquinone on rice to control red-winged blackbirds. This request was denied because the current data base is insufficient to support any food uses of this chemical and the situation does not meet Agency criteria for an emergency exemption Contact: (Libby Pemberton).

On 9/20/00 EPA denied the use of chlorfenapyr on cotton to control beet armyworm. This request was denied based upon the Agency's inability, at this time, to make the required finding that the use would not cause unreasonable adverse effects on the environment. Additionally, since EPA cannot register this use and the Registrant has withdrawn its application for registration of chlorfenapyr on cotton, adequate progress toward registration is not being made. Contact: (Andrea Conrath).

On 10/27/00 EPA denied the use of clomazone on sugarcane to control bermudagrass. This request was denied because an urgent and non-routine situation was not demonstrated. Contact: (David Deegan).

Specific. EPA authorized the use of 3-chloro-p-touidine hydrochloride on fallow fields to control various birds; 2/15/00 to 4/15/00. Contact: (Libby Pemberton)

EPA authorized the use of clomazone on rice to control Barnyardgrass and other annual weeds; 3/07/00 to 6/01/00. Contact: (David Deegan)

EPA authorized the use of coumaphos in beehives to control varroa mites and small hive beetles; 3/21/00 to 2/1/01. Contact: (Barbara Madden)

EPA authorized the use of imazapic-ammonium on bermudagrass to control vaseygrass; 4/10/00 to 5/30/00. Contact: (Libby Pemberton)

EPA authorized the use of tebufenozide on sweet potatoes to control beet armyworms and fall armyworms; 4/17/00 to 10/31/00. Contact: (Andrew Ertman)

EPA authorized the use of emamectin benzoate on cotton to control beet armyworms and resistant tobacco budworms; 5/4/00 to 9/30/00. Contact: (Andrea Conrath)

EPA authorized the use of carbofuran on cotton to control aphids; 6/02/00 to 9/30/00. Contact: (David Deegan)

EPA authorized the use of methoxyfenozide on cotton to control beet armyworms; 6/5/00 to 10/1/00. Contact: (Dan Rosenblatt)

EPA authorized the use of indoxacarb on cotton to control beet armyworms and tobacco budworms; 6/15/00 to 10/31/00. Contact: (Dan Rosenblatt)

EPA authorized the use of lambda-cyhalothrin on sugarcane to control the sugarcane borer; 7/5/00 to 9/15/00. Contact: (Andrew Ertman)

Maine

Department of Agriculture, Food, and Rural Resources

Specific. EPA authorized the use of fomesafen on dry beans to control broad leaf weeds; 03/01/00 to 7/15/00. Contact: (Andrea Conrath)

EPA authorized the use of propiconazole on blueberries to control mummy berry disease; 4/15/00 to 6/15/00. Contact: (Steve Schaible)

EPA authorized the use of coumaphos in beehives to control varroa mites and small hive beetles; 9/1/00 to 2/1/01. Contact: (Barbara Madden)

Maryland

Department of Agriculture

Specific. EPA authorized the use of coumaphos in beehives to control varroa mites and small hive beetles; 3/8/00 to 2/1/01. Contact: (Barbara Madden)

EPA authorized the use of terbacil on watermelon to control morning glory and other annual broadleaf weeds; 4/3/00 to 6/15/00. Contact: (David Deegan)

EPA authorized the use of fomesafen on snapbeans to control broadleaf weeds; 4/4/00 to 9/15/00. Contact: (Andrea Conrath)

EPA authorized the use of clomazone on watermelon to control broadleaf weeds; 4/6/00 to 6/30/00. Contact: (David Deegan)

EPA authorized the use of metolachlor on tomatoes to control eastern black nightshade and yellow nutsedge; 4/13/00 to 7/31/00. Contact: (Andrew Ertman)

EPA authorized the use of propamocarb hydrochloride on tomatoes to control late blight; 6/5/00 to 9/30/00. Contact: (Libby Pemberton)

EPA authorized the use of metolachlor on spinach to control weeds; 9/8/00 to 4/30/01. Contact: (Andrew Ertman)

Massachusetts

Massachusetts Department of Food and Agriculture

Specific. EPA authorized the use of pronamide on cranberries to control dodder; 1/19/00 to 6/1/00. Contact: (Andrew Ertman)

EPA authorized the use of clopyralid on cranberries to control various weeds; 1/4/00 to 12/31/00. Contact: (Libby Pemberton)

EPA authorized the use of propiconazole on blueberries to control mummy berry disease; 3/30/00 to 6/15/00. Contact: (Steve Schaible)

EPA authorized the use of coumaphos in beehives to control varroa mites and small hive beetles; 4/17/00 to 2/1/01. Contact: (Barbara Madden)

EPA authorized the use of oxyfluorfen on strawberries to control broadleaf weeds; 11/9/00 to 12/15/00. Contact: (Barbara Madden)

Michigan

Michigan Department of Agriculture

Crisis. On 5/5/00, for the use of mancozeb on ginseng to control leaf and stem blight. This program ended on 6/30/00. Contact: (Dan Rosenblatt)

On 5/25/00, for the use of azoxystrobin on ginseng to control leaf and stem blight. This program ended on 6/30/00. Contact: (Dan Rosenblatt)

Specific. EPA authorized the use of fenbuconazole on blueberries to control mummy berry disease; 3/17/00 to 9/1/00. Contact: (Dan Rosenblatt)

EPA authorized the use of coumaphos in beehives to control varroa mites and small hive beetles; 3/17/00 to 2/1/01. Contact: (Barbara Madden)

EPA authorized the use of dimethomorph on squash (summer, winter, and pumpkins), cantaloupes, watermelons, and cucumbers to control crown rot; 3/30/00 to 11/1/00. Contact: (Libby Pemberton)

EPA authorized the use of fomesafen on dry beans to control broadleaf weeds; 4/4/00 to 9/15/00. Contact: (Andrea Conrath)

EPA authorized the use of oxytetracycline on apples to control fire blight; 4/11/00 to 6/30/00. Contact: (Andrea Conrath)

EPA authorized the use of metolachlor on tomatoes to control eastern black nightshade; 4/13/00 to 7/1/00. Contact: (Andrew Ertman)

EPA authorized the use of clopyralid on cranberries to control selected broadleaf weeds; 4/28/00 to 12/31/00. Contact: (Libby Pemberton)

EPA authorized the use of fomesafen on snap beans to control weeds; 5/4/00 to 8/30/00. Contact: (Andrea Conrath)

EPA authorized the use of chlorothalonil on asparagus to control purple spot; 5/15/00 to 11/1/00. Contact: (Steve Schaible)

EPA authorized the use of tebuconazole on wheat to control Fusarium head blight; 5/15/00 to 6/30/00. Contact: (Steve Schaible)

EPA authorized the use of tetraconazole on sugarbeets to control Cercospora leafspot; 6/7/00 to 9/30/00. Contact: (David Deegan)

EPA authorized the use of mancozeb on ginseng to control leaf and stem blight; 6/30/00 to 10/15/00. Contact: (Dan Rosenblatt)

EPA authorized the use of azoxystrobin on ginseng to control leaf and stem blight; 6/30/00 to 10/15/00. Contact: (Dan Rosenblatt)

EPA authorized the use of tebufenozide on grapes to control grape berry moth; 7/1/00 to 9/30/00. Contact: (Barbara Madden)

EPA authorized the use of propamocarb hydrochloride on potatoes to control late blight; 7/13/00 to 7/13/01. Contact: (Libby Pemberton)

EPA authorized the use of oxyfluorfen on strawberries to control broadleaf weeds; 11/9/00 to 1/1/01. Contact: (Barbara Madden)

Minnesota

Department of Agriculture

Crisis. On 1/5/00, for the use of imidacloprid on sweet corn seed to control corn flea beetles. This program is expected to end on 12/10/00. Contact: (Andrew Ertman)

Specific. EPA authorized the use of imidacloprid on sweet corn seed to control corn flea beetles; 1/5/00 to 12/10/00. Contact: (Andrew Ertman)

EPA authorized the use of coumaphos in beehives to control varroa mites and small hive beetles; 1/20/00 to 1/18/01. Contact: (Barbara Madden)

EPA authorized the use of clopyralid on canola to control thistles; 2/3/2000 to 7/31/2000. Contact: (Libby Pemberton)

EPA authorized the use of ethalfluralin on canola to control kochia; 4/7/00 to 4/7/01. Contact: (David Deegan)

EPA authorized the use of ethametsulfuron on seed canola to control wild mustard; 4/7/00 to 7/1/00. Contact: (Dan Rosenblatt)

EPA authorized the use of imazamox on canola to control mustard; 5/1/00 to 7/15/00. Contact: (Barbara Madden)

EPA authorized the use of imazamox on dry beans to control various nightshade species and velvetleaf; 5/1/00 to 6/30/00. Contact: Barbara Madden

EPA authorized the use of tetraconazole on sugarbeets to control Cercospora leafspot; 6/15/00 to 9/30/00. Contact: (David Deegan)

EPA authorized the use of propiconazole on dry beans to control rust; 6/15/00 to 8/31/00. Contact: (Steve Schaible)

EPA authorized the use of tebuconazole on wheat and barley to control Fusarium head blight; 6/15/00 to 8/25/00. Contact: (Steve Schaible)

EPA authorized the use of fomesafen on dry beans to control various weed species; 6/16/00 to 8/15/00. Contact: (Andrea Conrath)

EPA authorized the use of chlorine dioxide on stored potatoes to control late blight; 8/31/00 to 8/31/01. Contact: (Andrew Ertman)

Mississippi

Department of Agriculture and Commerce

Crisis. On 7/27/00, for the use of tebufenozide on sweet potatoes to control armyworms. This program ended on 10/15/00. Contact: (Andrew Ertman)

Denial. On 3/30/00 EPA denied the use of bispyribac-sodium on rice to control Barnyardgrass and other annual weeds. This request was denied based upon the Agency's inability, at this time, to reach a “reasonable certainty of no harm” finding regarding health effects which may result if this use were to occur, an inability to assess ecological effects of the proposed use, and finally, that the Agency did not conclude that this emergency situation required use of multiple products to attain adequate control of the pest situation. EPA did allow emergency use of an alternative chemical under provisions of section 18. Contact: (David Deegan)

Specific. EPA authorized the use of clomazone on rice to control Barnyardgrass and other annual weeds; 1/25/00 to 6/30/00. Contact: (David Deegan)

EPA authorized the use of coumaphos in beehives to control varroa mites and small hive beetles; 2/10/00 to 2/1/01. Contact: (Barbara Madden)

EPA authorized the use of norflurazon on bermudagrass to control annual grassy weeds; 2/24/00 to 7/31/00. Contact: (Libby Pemberton)

EPA authorized the use of fenbuconazole on blueberries to control mummy berry disease; 2/24/00 to 7/1/00. Contact: (Dan Rosenblatt)

EPA authorized the use of emamectin benzoate on cotton to control beet armyworms and resistant tobacco budworms; 5/4/00 to 9/30/00. Contact: (Andrea Conrath)

EPA authorized the use of diuron in/on catfish ponds to control blue-green algae; 05/12/00 to 11/30/00. Contact: (David Deegan)

EPA authorized the use of carbofuran on cotton to control aphids; 6/02/00 to 9/15/00. Contact: (David Deegan)

EPA authorized the use of methoxyfenozide on cotton to control beet armyworms and resistant tobacco budworms; 6/5/00 to 10/1/00. Contact: (Dan Rosenblatt)

EPA authorized the use of indoxacarb on cotton to control beet armyworms and resistant tobacco budworms; 6/15/00 to 10/31/00. Contact: (Dan Rosenblatt)

EPA authorized the use of tebufenozide on pasture land to control armyworms; 7/11/00 to 10/15/00. Contact: (Barbara Madden)

EPA authorized the use of thiamethoxam on cotton to control cotton aphids and whiteflies; 7/11/00 to 9/15/00. Contact: (Steve Schaible)

EPA authorized the use of tebufenozide on sweet potatoes to control armyworms; 7/27/00 to 10/15/00. Contact: (Andrew Ertman)

EPA authorized the use of niclosamide in commercially operated, man-made levee containment ponds for catfish production to control ram's horn snail, an intermediate host to the yellow grub trematode (Bolbophorus confusus); 11/8/00 to 11/8/01. Contact: (Barbara Madden)

Missouri

Department of Agriculture

Specific. EPA authorized the use of clomazone on rice to control Barnyardgrass and other annual weeds; 3/07/00 to 6/15/00. Contact: (David Deegan)

EPA authorized the use of fomesafen on snapbeans to control broadleaf weeds; 4/4/00 to 9/15/00. Contact: (Andrea Conrath)

EPA authorized the use of carbofuran on cotton to control aphids; 6/02/00 to 9/30/00. Contact: (David Deegan)

EPA authorized the use of coumaphos in beehives to control varroa mites and small hive beetles; 9/22/00 to 2/1/01. Contact: (Barbara Madden)

Montana

Department of Agriculture

Crisis. On 5/11/00, for the use of lambda-cyhalothrin on barley to control the Russian wheat aphid. This program ended on 7/30/00. Contact: (Andrew Ertman)

Denial. On 8/11/00 EPA denied the use of tebuconazole on barley to control barley stripe rust. This request was denied because an emergency condition which would result in significant economic losses was not shown to exist. Additionally, the state did not this year experience the wet and cool weather conditions which would be conducive to disease outbreak should inoculum enter the state. Contact: (Steve Schaible).

Specific. EPA authorized the use of ethametsulfuron-methyl on canola produced for seed to control wild mustard; 1/28/00 to 7/1/00. Contact: (Dan Rosenblatt)

EPA authorized the use of clopyralid on canola to control thistles; 2/3/2000 to 7/31/2000. Contact: (Libby Pemberton)

EPA authorized the use of coumaphos in beehives to control varroa mites and small hive beetles; 2/7/00 to 2/1/01. Contact: (Barbara Madden)

EPA authorized the use of lambda-cyhalothrin on barley to control cutworms; 3/7/00 to 7/1/00. Contact: (Andrew Ertman)

EPA authorized the use of thiabendazole on lentil seed to control Ascochyta Blight; 3/17/00 to 6/1/00. Contact: (Andrea Conrath)

EPA authorized the use of pyridate on mint to control redroot pigweed and kochia; 4/1/00 to 12/31/00. Contact: (Barbara Madden)

EPA authorized the use of ethalfluralin on canola to control kochia; 4/7/00 to 4/7/01. Contact: (David Deegan)

EPA authorized the use of myclobutanil on mint to control peppermint rust; 4/26/00 to 12/31/00. Contact: (David Deegan)

EPA authorized the use of imazamox on dry beans to control various nightshade species and velvetleaf; 5/1/00 to 6/30/00. Contact: Barbara Madden

EPA authorized the use of lambda-cyhalothrin on barley to control the Russian wheat aphid; 5/11/00 to 7/30/00. Contact: (Andrew Ertman)

EPA authorized the use of tetraconazole on sugarbeets to control Cercospora leafspot; 6/7/00 to 9/30/00. Contact: (David Deegan)

EPA authorized the use of imazapic-ammonium on pasture/rangeland (including land in the Conservation Reserve Program) to control leafy spurge; 8/1/00 to 12/31/00. Contact: (Libby Pemberton)

EPA authorized the use of chlorine dioxide on stored potatoes to control late blight; 8/31/00 to 8/31/01. Contact: (Andrew Ertman)

Nebraska

Department of Agriculture

Crisis. On 7/19/00, for the use of tetraconazole on sugarbeets to control cercospora leafspot. This program ended on 9/30/00. Contact: (David Deegan)

Specific. EPA authorized the use of coumaphos in beehives to control varroa mites and small hive beetles; 4/4/00 to 2/1/01. Contact: (Barbara Madden)

EPA authorized the use of metsulfuron-methyl on sorghum to control weeds; 5/24/00 to 7/31/00. Contact: (Andrew Ertman)

EPA authorized the use of imazamox on dry bean to control various nightshade species and velvetleaf; 6/1/00 to 7/15/00. Contact: (Barbara Madden)

EPA authorized the use of tebuconazole on sunflowers to control rust; 6/16/00 to 9/15/00. Contact: (Steve Schaible)

EPA authorized the use of propiconazole on sorghum to control sorghum ergot; 7/1/00 to 8/31/00. Contact: (Steve Schaible)

EPA authorized the use of tetraconazole on sugarbeets to control Cercospora leafspot; 7/20/00 to 9/30/00. Contact: (David Deegan)

EPA authorized the use of imazapic-ammonium on pasture/rangeland (including land in the Conservation Reserve Program) to control leafy spurge; 8/31/00 to 12/31/00. Contact: (Libby Pemberton)

Nevada

Department of Agriculture

Specific. EPA authorized the use of chlorine dioxide on stored potatoes to control late blight; 9/17/00 to 8/31/01. Contact: (Andrew Ertman)

New Hampshire

Department of Agriculture

Specific. EPA authorized the use of propiconazole on blueberries to control mummy berry disease; 4/1/00 to 8/1/00. Contact: (Steve Schaible)

New Jersey

Department of Environmental Protection

Specific. EPA authorized the use of coumaphos in beehives to control varroa mites and small hive beetles; 3/8/00 to Febraury 1/01. Contact: (Barbara Madden)

EPA authorized the use of fenbuconazole on blueberries to control mummy berry disease; 3/17/00 to 6/30/00. Contact: (Dan Rosenblatt)

EPA authorized the use of propyzamide on cranberries to control dodder; 3/17/00 to 12/15/00. Contact: (Andrew Ertman)

EPA authorized the use of metolachlor on spinach to control weeds; 3/28/00 to 11/1/00. Contact: (Andrew Ertman)

EPA authorized the use of metolachlor on tomatoes to control weeds; 3/28/00 to 12/1/00. Contact: (Andrew Ertman)

EPA authorized the use of clopyralid on cranberries to control wild bean; 4/28/00 to 12/31/00. Contact: (Libby Pemberton)

EPA authorized the use of imidacloprid on blueberries to control blueberry aphids; 5/10/00 to 8/10/00. Contact: (Andrew Ertman)

EPA authorized the use of fludioxonil on peaches and nectarines to control brown rot, gray mold, and Rhizopus rot; 5/31/00 to 9/30/00. Contact: (Andrew Ertman)

EPA authorized the use of imidacloprid on blueberries to control the oriental beetle; 6/1/00 to 8/10/00. Contact: (Andrew Ertman)

EPA authorized the use of clopyralid on peaches and nectarine to control weeds that serve as alternate hosts for plum pox virus or are refugia for the green peach aphid, the vector of this virus; 7/26/00 to 12/1/00. Contact: (Barbara Madden)

New Mexico

Department of Agriculture

Crisis. On 8/24/00, for the use of spinosad on alfalfa to control armyworms. This program ended on 11/1/00. Contact: (Andrew Ertman)

On 7/27/00, for the use of spinosad on peanuts to control armyworms. This program ended on 10/31/00. Contact: (Andrew Ertman)

Denial. On 8/23/00, EPA denied the use of oxyfluorfen on chili peppers to control Wright groundcherry. This request was denied based upon the Agency's inability, at this time, to reach a “reasonable certainty of no harm” finding regarding health effects which may result if this use were to occur. Contact: (Barbara Madden).

Specific. EPA authorized the use of emamectin benzoate on cotton to control the beet armyworm; 5/25/00 to 10/31/00. Contact: (Andrea Conrath)

EPA authorized the use of propiconazole on sorghum to control sorghum ergot; 6/1/00 to 9/30/00. Contact: (Steve Schaible)

EPA authorized the use of myclobutanil on peppers (bell and non-bell) to control powdery mildew; 6/14/00 to 10/15/00. Contact: (David Deegan)

EPA authorized the use of metsulfuron-methyl on sorghum to control triazine resistant pigweed; 6/16/00 to 9/30/00. Contact: (Andrew Ertman)

EPA authorized the use of spinosad on peanuts to control armyworms; 7/27/00 to 10/31/00. Contact: (Andrew Ertman)

EPA authorized the use of spinosad on alfalfa to control armyworms; 8/24/00 to 11/1/00. Contact: (Andrew Ertman)

New York

Department of Environmental Conservation

Specific. EPA authorized the use of fomesafen on snap and dry beans to control broad leaf weeds; 3/01/00 to 8/15/00. Contact: (Andrea Conrath)

EPA authorized the use of coumaphos in beehives to control varroa mites and small hive beetles; 3/21/00 to 2/1/01. Contact: (Barbara Madden)

EPA authorized the use of imidacloprid on peaches, nectarines, plums and apricots to control aphids; 4/17/00 to 10/15/00. Contact: (Andrew Ertman)

EPA authorized the use of desmedipham on red beets to control broadleaf weeds; 5/15/00 to 7/31/00. Contact: (Steve Schaible)

EPA authorized the use of dimethenamid on dry bulb onion to control weeds; 6/9/00 to 6/15/00. Contact: (Barbara Madden)

EPA authorized the use of propamocarb hydrochloride on potatoes to control late blight; 7/13/00 to 7/13/01. Contact: (Libby Pemberton)

North Carolina

Department of Agriculture

Crisis. On 11/23/99, for the use of metaldehyde on cargo holds in military vessels to control snails. The state exercised its crisis authority on behalf of the Department of Defense, which discovered snails that had entered its vessels and had infested machinery in the cargo holds. The crisis situation was declared in order to avoid contamination of foreign ports with what would be non-indiginous organisms. While the state first declared crisis on 11/23/99, the use of metaldehyde did not commence until 12/20/99, due to the need of the armed forces to jointly approve the action and to contract with personnel to accomplish the pesticide application(s). Therefore, on 12/17/99, North Carolina amended its crisis declaration to allow the pesticide use to occur between the dates of 12/20/99 and 1/3/00. This program ended on 1/3/00. Contact: (David Deegan)

Denial. On 5/1/00 EPA denied the use of fluazinam on peanuts to control Sclerotinia blight. This request was denied based upon the Agency's inability, at this time, to reach a “reasonable certainty of no harm” finding regarding health effects which may result if this use were to occur. Contact: (Barbara Madden)

Specific. EPA authorized the use of coumaphos in beehives to control varroa mites and small hive beetles; 2/10/00 to 2/1/01. Contact: (Barbara Madden)

EPA authorized the use of fenbuconazole on blueberries to control mummy berry disease; 3/17/00 to 8/31/00. Contact: (Dan Rosenblatt)

North Dakota

Department of Agriculture

Crisis. On 7/24/00, for the use of paraquat dichloride on peas grown for seed to control weeds. This program ended on 8/4/00. Contact: (Libby Pemberton)

On 8/1/00, for the use of glyphosate on flax to control Canadian and perennial sowthistle. This program ended on 10/1/00. Contact: (Libby Pemberton)

Specific. EPA authorized the use of clopyralid on canola to control thistles; 2/3/00 to 7/31/00. Contact: (Libby Pemberton)

EPA authorized the use of clopyralid on flax to control Canada thistle and perennial sowthistle; 3/7/00 to 7/31/00. Contact: (Libby Pemberton)

EPA authorized the use of coumaphos in beehives to control varroa mites and small hive beetles; 3/8/00 to 2/1/01. Contact: (Barbara Madden)

EPA authorized the use of thiabendazole on lentil seed to control Ascochyta blight; 3/17/00, to 6/1/00. Contact: (Andrea Conrath)

EPA authorized the use of ethametsulfuron on seed canola to control wild mustard; 3/30/00 to 7/1/00. Contact: (Dan Rosenblatt)

EPA authorized the use of ethalfluralin on canola to control kochia; 4/7/00 to 4/7/01. Contact: (David Deegan)

EPA authorized the use of imazamox on canola to control mustard; 5/1/00 to 7/15/00. Contact: (Barbara Madden)

EPA authorized the use of imazamox on dry beans to control various nightshade species and velvetleaf; 5/1/00 to 6/30/00. Contact: Barbara Madden

EPA authorized the use of tetraconazole on sugarbeets to control Cercospora leafspot; 6/15/00 to 9/30/00. Contact: (David Deegan)

EPA authorized the use of propiconazole on dry beans to control rust; 6/15/00 to 8/31/00. Contact: (Steve Schaible)

EPA authorized the use of tebuconazole on wheat and barley to control Fusarium head blight; 6/15/00 to 8/25/00. Contact: (Steve Schaible)

EPA authorized the use of fomesafen on dry beans to control various weed species; 6/16/00 to 8/15/00. Contact: (Andrea Conrath)

EPA authorized the use of tebuconazole on sunflowers to control rust; 7/5/00 to 9/5/00. Contact: (Steve Schaible)

EPA authorized the use of imazapic-ammonium on pasture/rangeland (including land in the Conservation Reserve Program) to control leafy spurge; 8/1/00 to 12/31/00. Contact: (Libby Pemberton)

EPA authorized the use of glyphosate on flax to control Canada thistle and perennial sowthistle; 9/7/00 to 10/15/00. Contact: (Libby Pemberton)

EPA authorized the use of chlorine dioxide on stored potatoes to control late blight; 9/25/00 to 8/31/01. Contact: (Andrew Ertman)

Ohio

Department of Agriculture

Specific. EPA authorized the use of coumaphos in beehives to control varroa mites and small hive beetles; 2/7/00 to 2/1/01. Contact: (Barbara Madden)

EPA authorized the use of oxyfluorfen on strawberries to control weeds; 6/20/00 to 12/15/00. Contact: (Barbara Madden)

Oklahoma

Department of Agriculture

Crisis. On 5/30/00, for the use of diflubenzuron on rangeland to control grasshoppers. This program became effective 6/1/00 and ended on 6/15/00. Contact: (Steve Schaible)

On 9/19/00, for the use of spinosad on alfalfa to control armyworms. This program ended on 10/3/00. Contact: (Andrew Ertman)

Denial. On 5/1/00 EPA denied the use of fluazinam on peanuts to control Sclerotinia blight. This request was denied based upon the Agency's inability, at this time, to reach a “reasonable certainty of no harm” finding regarding health effects which may result if this use were to occur. Contact: (Barbara Madden).

Specific. EPA authorized the use of fomesafen on snapbeans to control broadleaf weeds; 4/4/00 to 9/15/00. Contact: (Andrea Conrath)

EPA authorized the use of emamectin benzoate on cotton to control beet armyworms; 5/4/00 to 10/31/00. Contact: (Andrea Conrath)

EPA authorized the use of metsulfuron-methyl on sorghum to control weeds; 5/24/00 to 8/15/00. Contact: (Andrew Ertman)

EPA authorized the use of carbofuran on cotton to control aphids; 6/02/00 to 10/15/00. Contact: (David Deegan)

EPA authorized the use of indoxacarb on cotton to control beet armyworms; 6/15/00 to 10/31/00. Contact: (Dan Rosenblatt)

EPA authorized the use of propiconazole on sorghum to control sorghum ergot; 6/15/00 to 9/30/00. Contact: (Steve Schaible)

EPA authorized the use of dicloran on peanuts to control Sclerotinia blight; 7/15/00 to 10/15/00. Contact: (Barbara Madden)

EPA authorized the use of tebufenozide on peanuts to control beet armyworm; 7/15/00 to 10/15/00. Contact: (Barbara Madden)

EPA authorized the use of bifenthrin on peanuts to control spider mites; 7/21/00 to 10/30/00. Contact: (Andrea Conrath)

EPA authorized the use of metolachlor on spinach to control weeds; 9/8/00 to 3/31/01. Contact: (Andrew Ertman)

EPA authorized the use of fluazinam on peanuts to control Sclerotinia blight; 9/11/00 to 10/15/00. Contact: (Barbara Madden)

Oregon

Department of Agriculture

Crisis. On 8/9/00, for the use of bifenthrin on potatoes to control spider mites. This program ended on 10/15/00. Contact: (Andrea Conrath)

Denial. On 1/12/00 EPA denied the use of oxyfluorfen on rhubarb to control broadleaf weeds. This request was denied because no supporting data were submitted to support the claim that an emergency exists however, based on the information the state submitted, the Agency concluded the situation may be serious but is most likely a chronic pest problem. Contact: (Barbara Madden).

On 7/28/00, EPA denied the use of procarbazone on wheat to control goatgrass. This request was denied because EPA does not have adequate data previously reviewed for this chemical for which to reach a conclusion that there is a “reasonable certainty of no harm” to human health resulting from exposure to chemical residues, nor can EPA reach any conclusions about ecological effects resulting from this use, should it occur. Contact: (David Deegan).

Specific. EPA authorized the use of oxyfluorfen on strawberries to control broadleaf weeds; 12/15/99 to 8/15/00. Contact: (Barbara Madden)

EPA authorized the use of pendimethalin on mint to control kochia and redroot pigweed; 2/1/00 to 12/31/00. Contact: (Steve Schaible)

EPA authorized the use of coumaphos in beehives to control varroa mites and small hive beetles; 2/2/00 to 2/1/01. Contact: (Barbara Madden)

EPA authorized the use of fenbuconazole on blueberries to control mummy berry disease; 2/9/00 to 5/31/00. Contact: (Dan Rosenblatt)

EPA authorized the use of ethoprop on baby hops and idle hops to control garden symphylans; 2/10/00 to 5/31/00. Contact: (Steve Schaible)

EPA authorized the use of cymoxanil on hops to control downy mildew; 3/6/00 to 9/15/00. Contact: (Libby Pemberton)

EPA authorized the use of tebuconazole on barley to control barley stripe rust; 3/30/00 to 8/15/00. Contact: (Steve Schaible)

EPA authorized the use of oxytetracycline on apples to control fire blight; 4/11/00 to 8/1/00. Contact: (Andrea Conrath)

EPA authorized the use of myclobutanil on hops to control powdery mildew; 4/13/00 to 9/22/00. Contact: (David Deegan)

EPA authorized the use of tebuconazole on hops to control powdery mildew; 4/13/00 to 9/22/00. Contact: (David Deegan)

EPA authorized the use of trifloxystrobin on hops to control powdery mildew; 4/13/00 to 9/22/00. Contact: (David Deegan)

EPA authorized the use of pyridate on mint to control redroot pigweed and kochia; 4/15/00 to 12/31/00. Contact: (Barbara Madden)

EPA authorized the use of fluroxypyr on field corn to control volunteer potatoes; 4/15/00 to 8/1/00. Contact: (Andrew Ertman)

EPA authorized the use of fluroxypyr on sweet corn to control volunteer potatoes; 4/15/00 to 8/1/00. Contact: (Andrew Ertman)

EPA authorized the use of propiconazole on raspberries to control yellow rust; 5/1/00 to 11/1/00. Contact: (Steve Schaible)

EPA authorized the use of Switch 62.5 WG (containing the active ingredients fludioxonil and cyprodinil) on caneberries to control gray mold; 5/9/00 to 9/10/00. Contact: (Steve Schaible)

EPA authorized the use of triazamate on true fir Christmas trees to control root aphids; 5/24/00 to 10/31/00. Contact: (Steve Schaible)

EPA authorized the use of tebuconazole on wheat to control stripe rust and leaf rust; 5/22/00 to 7/15/00. Contact: (Steve Schaible)

EPA authorized the use of paraquat dichloride on green and dried peas grown for seed to control weeds; 5/30/00 to 11/30/00. Contact: (Libby Pemberton)

EPA authorized the use of fludioxonil on peaches to control brown rot, gray mold, and Rhizopus rot; 5/31/00 to 9/30/00. Contact: (Andrew Ertman)

EPA authorized the use of bifenthrin on raspberries to control weevils; 6/13/00 to 8/15/00. Contact: (Andrea Conrath)

EPA authorized the use of propamocarb hydrochloride on potatoes to control late blight; 6/14/00 to 10/31/00. Contact: (Libby Pemberton)

EPA authorized the use of ethoprop on baby mint to control garden symphylans; 7/26/00 to 9/15/00. Contact: (Steve Schaible)

EPA authorized the use of chlorine dioxide on stored potatoes to control late blight; 8/31/00 to 8/31/01. Contact: (Andrew Ertman)

EPA authorized the use of bifenthrin on potatoes to control spider mites; 9/07/00 to 10/15/00. Contact: (Andrea Conrath). Oregon had declared a crisis for this use on 8/09/00.

EPA authorized the use of flufenacet on wheat to control annual ryegrass; 10/5/00 to 6/30/01. Contact: (Barbara Madden)

Pennsylvania

Department of Agriculture

Specific. EPA authorized the use of coumaphos in beehives to control varroa mites and small hive beetles; 1/20/00 to 1/18/01. Contact: (Barbara Madden)

EPA authorized the use of fomesafen on snap beans to control weeds; 5/4/00 to 8/30/00. Contact: (Andrea Conrath)

EPA authorized the use of metolachlor on spinach to control weeds; 6/1/00 to 8/30/00. Contact: (Andrew Ertman)

EPA authorized the use of oxyfluorfen on strawberries to control broadleaf weeds; 10/15/00 to 12/15/00. Contact: (Barbara Madden)

Rhode Island

Department of Environmental Management

Specific. EPA authorized the use of propiconazole on blueberries to control mummy berry disease; 4/20/00 to 6/1/00. Contact: (Steve Schaible)

South Carolina

Clemson University

Specific. EPA authorized the use of coumaphos in beehives to control varroa mites and small hive beetles; 1/20/00 to 1/18/01. Contact: (Barbara Madden)

EPA authorized the use of Switch 62.5 WG (containing the active ingredients fludioxonil and cyprodinil) on strawberries to control flower blight and fruit rot; 5/12/00 to 6/15/00. Contact: (Steve Schaible)

EPA authorized the use of fludioxonil on peaches and nectarines to control brown rot; 5/15/00 to 9/15/00. Contact: (Andrew Ertman)

EPA authorized the use of indoxacarb on cotton to control beet armyworm and tobacco budworm; 7/27/00 to 10/31/00. Contact: (Dan Rosenblatt)

EPA authorized the use of diuron in/on catfish ponds to control blue-green algae; 8/04/00 to 11/30/00. Contact: (David Deegan)

South Dakota

Department of Agriculture

Specific. EPA authorized the use of coumaphos in beehives to control varroa mites and small hive beetles; 3/8/00 to 2/1/01. Contact: (Barbara Madden)

EPA authorized the use of pendimethalin on mint to control kochia and redroot pigweed; 4/1/00 to 11/1/00. Contact: (Steve Schaible)

EPA authorized the use of tebuconazole on wheat and barley to control Fusarium head blight; 5/15/00 to 8/25/00. Contact: (Steve Schaible)

Tennessee

Department of Agriculture

Crisis. On 9/18/00, for the use of imidacloprid on legumes to control whiteflies. This program ended on 10/3/00. Contact: (Andrea Conrath)

Specific. EPA authorized the use of coumaphos in beehives to control varroa mites and small hive beetles; 3/8/00 to 2/1/01. Contact: (Barbara Madden)

EPA authorized the use of carbofuran on cotton to control aphids; 7/21/00 to 9/30/00. Contact: (David Deegan)

EPA authorized the use of tebufenozide on pasture land to control armyworm; 7/25/00 to 12/15/00. Contact: (Barbara Madden)

Texas

Department of Agriculture

Crisis. On 2/9/00, for the use of myclobutanil on mayhaws to control cedar quince rust. This program ended on 6/01/00. Contact: (David Deegan)

On 4/16/00, for the use of myclobutanil on cucurbit vegetables to control powdery mildew. This program ended on 5/16/00. Contact: (Dan Rosenblatt)

On 6/23/00, for the use of tebufenozide on pasture land to control armyworms. This program ended on 10/31/00. Contact: (Barbara Madden)

On 8/18/00, for the use of spinosad on alfalfa to control armyworms. This program ended on 11/1/00. Contact: (Andrew Ertman)

On 7/27/00, for the use of spinosad on peanuts to control armyworms. This program ended on 10/31/00. Contact: (Andrew Ertman)

Denial. On 1/31/00 EPA denied the use of maleic hydrazide on rice to control red rice. This request was denied because both the pest problem and the partial efficacy of currently registered alternatives are chronic, existing situations and an emergency condition was not found to exist. Contact: (Steve Schaible)

On 5/1/00 EPA denied the use of fluazinam on peanuts to control Sclerotinia blight. This request was denied based upon the Agency's inability, at this time, to reach a “reasonable certainty of no harm” finding regarding health effects which may result if this use were to occur. Contact: (Barbara Madden)

On 9/20/00 EPA denied the use of chlorfenapyr on cotton to control beet armyworm. This request was denied based upon the Agency's inability, at this time, to make the required finding that the use would not cause unreasonable adverse effects on the environment. Additionally, since EPA cannot register this use and the Registrant has withdrawn its application for registration of chlorfenapyr on cotton, adequate progress toward registration is not being made. Contact: (Andrea Conrath)

Quarantine. EPA authorized the use of spinosad on all host commodities to control exotic fruit fly species, particularly the Mexican fruit fly; 4/25/00 to 4/25/03. Contact: (Dan Rosenblatt)

Specific. EPA authorized the use of propiconazole on sorghum to control sorghum ergot; 1/7/00 to 12/31/00. Contact: (Steve Schaible)

EPA authorized the use of clomazone on rice to control Barnyardgrass and other annual weeds; 1/25/00 to 6/01/00. Contact: (David Deegan)

EPA authorized the use of metsulfuron-methyl on sorghum to control triazine-resistant pigweed; 2/3/00 to 8/15/00. Contact: (Andrew Ertman)

EPA authorized the use of propamocarb hydrochloride on potatoes to control late blight; 3/2/00 to 10/31/00. Contact: (Libby Pemberton)

EPA authorized the use of carbofuran on cotton to control aphids; 4/21/00 to 10/31/00. Contact: (David Deegan)

EPA authorized the use of emamectin benzoate on cotton to control beet armyworms; 5/4/00 to 10/1/00. Contact: (Andrea Conrath)

EPA authorized the use of myclobutanil on cucurbit vegetables to control powdery mildew; 5/16/00 to 5/1/01. Contact: (Dan Rosenblatt)

EPA authorized the use of methoxyfenozide on cotton to control beet armyworms; 6/5/00 to 10/1/00. Contact: (Dan Rosenblatt)

EPA authorized the use of coumaphos in beehives to control varroa mites and small hive beetles; 6/29/00 to 2/1/01. Contact: (Barbara Madden)

EPA authorized the use of indoxacarb on cotton to control beet armyworms; 6/15/00 to 10/31/00. Contact: (Dan Rosenblatt)

EPA authorized the use of metolachlor on spinach to control weeds; 6/29/00 to 6/28/01. Contact: (Andrew Ertman)

EPA authorized the use of dicloran on peanuts to control Sclerotinia blight; 7/1/00 to 10/31/00. Contact: (Barbara Madden)

EPA authorized the use of tebufenozide on pasture land to control armyworm; 7/25/00 to 12/15/00. Contact: (Barbara Madden)

EPA authorized the use of spinosad on peanuts to control armyworms; 7/27/00 to 10/31/00. Contact: (Andrew Ertman)

EPA authorized the use of spinosad on alfalfa to control armyworms; 8/18/00 to 11/1/00. Contact: (Andrew Ertman)

EPA authorized the use of bifenthrin on seed sorghum to control spider mites; 8/23/00 to 8/23/01. Contact: (Andrea Conrath)

EPA authorized the use of fluazinam on peanuts to control Sclerotinia blight; 9/11/00 to 10/1/00. Contact: (Barbara Madden)

EPA authorized the use of chlorine dioxide on stored potatoes to control late blight; 9/28/00 to 8/31/01. Contact: (Andrew Ertman)

Utah

Department of Agriculture

Specific. EPA authorized the use of pendimethalin on mint to control kochia and redroot pigweed; 2/8/00 to 12/31/00. Contact: (Steve Schaible)

EPA authorized the use of oxytetracycline on apples to control fire blight; 7/27/00 to 9/30/00. Contact: (Andrea Conrath)

EPA authorized the use of coumaphos in beehives to control varroa mites and small hive beetles; 9/8/00 to 2/1/01. Contact: (Barbara Madden)

Vermont

Department of Agriculture

Specific. EPA authorized the use of coumaphos in beehives to control varroa mites and small hive beetles; 3/8/00 to 2/1/01. Contact: (Barbara Madden)

Virginia

Department of Agriculture and Consumer Services

Denial. On 5/1/00 EPA denied the use of fluazinam on peanuts to control Sclerotinia blight. This request was denied based upon the Agency's inability, at this time, to reach a “reasonable certainty of no harm” finding regarding health effects which may result if this use were to occur. Contact: (Barbara Madden).

On 3/24/00 EPA denied the use of acibenzolar on tomatoes to control bacterial diseases. This request was denied because the data that was submitted did not support the claim that an emergency exists. Rather, the available information indicated that the registered alternatives should provide adequate control of these diseases. Additionally, the claims that significant economic losses would occur were not supported by the submitted information. Since this request proposed the use of a new chemical, a notice of receipt published in the Federal Register on 3/03/00 with the public comment period closing on 3/18/00. No comments were received. Contact: (Andrea Conrath).

Specific. EPA authorized the use of metolachlor on tomatoes to control eastern black nightshade and yellow nutsedge; 1/24/00 to 8/1/00. Contact: (Andrew Ertman)

EPA authorized the use of fomesafen on snap beans to control broad leaf weeds; 3/01/00 to 9/20/00. Contact: (Andrea Conrath)

EPA authorized the use of terbacil on watermelon to control morning glory and other annual broadleaf weeds; 4/3/00 to 6/15/00. Contact: (David Deegan)

EPA authorized the use of clomazone on watermelon to control broadleaf weeds; 4/6/00 to 6/30/00. Contact: (David Deegan)

EPA authorized the use of imidacloprid on peaches and nectarines to control aphids; 6/1/00 to 10/1/00. Contact: (Andrew Ertman)

EPA authorized the use of coumaphos in beehives to control varroa mites and small hive beetles; 7/27/00 to 2/1/01. Contact: (Barbara Madden)

EPA authorized the use of metolachlor on spinach to control weeds; 9/8/00 to 12/31/01. Contact: (Andrew Ertman)

EPA authorized the use of flufenacet on wheat to control annual ryegrass; 10/18/00 to 12/31/00. Contact: (Barbara Madden)

Washington

Department of Agriculture

Crisis. On 6/2/00, for the use of dimethenamid on sugar beets to control weeds. This program ended on 7/10/00. Contact: (Barbara Madden)

On 8/9/00, for the use of bifenthrin on potatoes to control spider mites. This program ended on 10/15/00. Contact: (Andrea Conrath)

Denial. On 7/28/00 EPA denied the use of cyhexatin on hops to control the two-spotted spider mite. This request was denied because the Agency had inadequate data to conclude that the use would not pose an unreasonable adverse effect to persons occupationally exposed to the chemical. Contact: (Dan Rosenblatt).

Specific. EPA authorized the use of coumaphos in beehives to control varroa mites and small hive beetles; 1/20/00 to 1/18/01. Contact: (Barbara Madden)

EPA authorized the use of pendimethalin on mint to control kochia and redroot pigweed; 2/1/00 to 12/31/00. Contact: (Steve Schaible)

EPA authorized the seed treatment use of fosetyl-Al on peas to control downy mildew; 2/10/00 to 4/30/00. Contact: (Steve Schaible)

EPA authorized the use of propiconazole on blueberries to control mummy berry disease; 3/15/00 to 6/10/00. Contact: (Steve Schaible)

EPA authorized the use of thiabendazole on lentil seed to control Ascochyta blight; 3/17/00 to 6/1/00. Contact: (Andrea Conrath)

EPA authorized the use of fluroxypyr on field corn to control volunteer potatoes; 3/24/00 to 8/1/00. Contact: (Andrew Ertman)

EPA authorized the use of fluroxypyr on sweet corn to control volunteer potatoes; 3/24/00 to 8/1/00. Contact: (Andrew Ertman)

EPA authorized the use of tebuconazole on barley to control barley stripe rust; 3/30/00 to 8/15/00. Contact: (Steve Schaible)

EPA authorized the use of bifenthrin on raspberries to control weevils; 3/30/00 to 8/10/00. Contact: (Andrea Conrath)

EPA authorized the use of oxytetracycline on apples to control fire blight; 4/11/00 to 8/1/00. Contact: (Andrea Conrath)

EPA authorized the use of myclobutanil on hops to control powdery mildew; 4/13/00 to 9/22/00. Contact: (David Deegan)

EPA authorized the use of tebuconazole on hops to control powdery mildew; 4/13/00 to 9/22/00. Contact: (David Deegan)

EPA authorized the use of trifloxystrobin on hops to control powdery mildew; 4/13/00 to 9/22/00. Contact: (David Deegan)

EPA authorized the use of myclobutanil on mint to control powdery mildew; 4/26/00 to 12/31/00. Contact: (David Deegan)

EPA authorized the use of pyridate on mint to control redroot pigweed and kochia; 5/l/00 to 12/31/00. Contact: (Barbara Madden)

EPA authorized the use of propiconazole on raspberries to control yellow rust; 5/1/00 to 7/1/00. Contact: (Steve Schaible)

EPA authorized the use of pirimicarb on vegetable seed crops to control aphids; 5/4/00 to 9/15/00. Contact: (Steve Schaible)

EPA authorized the use of clopyralid on canola to control Canada thistle; 5/5/00 to 7/31/00. Contact: (Libby Pemberton)

EPA authorized the use of Switch 62.5 WG (containing the active ingredients fludioxonil and cyprodinil) on caneberries to control gray mold; 5/9/00 to 9/10/00. Contact: (Steve Schaible)

EPA authorized the use of propiconazole on cranberries to control cotton ball disease; 5/15/00 to 7/31/00. Contact: (Steve Schaible)

EPA authorized the use of triazamate on true fir Christmas trees to control root aphids; 5/24/00 to 10/31/00. Contact: (Steve Schaible)

EPA authorized the use of paraquat dichloride on green and dried peas grown for seed to control weeds; 5/30/00 to 11/30/00. Contact: (Libby Pemberton)

EPA authorized the use of dimethenamid on sugar beets to control weeds; 6/9/00 to 7/10/00. Contact: (Barbara Madden)

EPA authorized the use of propamocarb hydrochloride on potatoes to control late blight; 6/14/00 to 10/31/00. Contact: (Libby Pemberton)

EPA authorized the use of chlorine dioxide on stored potatoes to control late blight; 8/31/00 to 8/31/01. Contact: (Andrew Ertman)

EPA authorized the use of bifenthrin on potatoes to control spider mites; 9/07/00 to 10/15/00. Contact: (Andrea Conrath). Washington had declared a crisis exemption for this use on 8/09/00.

EPA authorized the use of zinc phosphide on timothy, clover and alfalfa to control meadow vole; 9/19/00 to 5/1/01. Contact: (Libby Pemberton)

EPA authorized the use of flufenacet on wheat to control annual ryegrass; 10/5/00 to 6/30/01. Contact: (Barbara Madden)

West Virginia

Department of Agriculture

Specific. EPA authorized the use of coumaphos in beehives to control varroa mites and small hive beetles; 4/17/00 to 2/1/01. Contact: (Barbara Madden)

Wisconsin

Department of Agriculture, Trade, and Consumer Protection

Crisis. On 6/22/00, for the use of glyphosate on horseradish to control giant ragweed. This program ended on 7/22/00. Contact: (Libby Pemberton)

On 5/1/00, for the use of mancozeb on ginseng to control leaf and stem blight. This program ended on 6/30/00. Contact: (Dan Rosenblatt)

On 5/26/00, for the use of azoxystrobin on ginseng to control leaf and stem blight. This program ended on 6/30/00. Contact: (Dan Rosenblatt)

Specific. EPA authorized the use of clopyralid on cranberries to control various weeds; 1/4/00 to 12/31/00. Contact: (Libby Pemberton)

EPA authorized the use of coumaphos in beehives to control varroa mites and small hive beetles; 1/20/00 to 1/18/01. Contact: (Barbara Madden)

EPA authorized the use of metolachlor on spinach to control weeds; 2/17/00 to 8/31/00. Contact: (Andrew Ertman)

EPA authorized the use of propiconazole on cranberries to control cottonball disease; 4/15/00 to 7/31/00. Contact: (Steve Schaible)

EPA authorized the use of pyridate on mint to control redroot pigweed and kochia; 4/15/00 to 12/31/00. Contact: (Barbara Madden)

EPA authorized the use of imazamox on dry bean to control various nightshade species and velvetleaf; 5/1/00 to 7/31/00. Contact: (Barbara Madden)

EPA authorized the use of dimethomorph on cucumbers and pumpkins to control Phytophthora fruit blight/rot; 5/10/00 to 10/1/00. Contact: (Libby Pemberton)

EPA authorized the use of fluroxypyr on field corn to control volunteer potatoes; 6/1/00 to 7/15/00. Contact: (Andrew Ertman)

EPA authorized the use of carfentrazone-ethyl on sweet corn to control broadleaf weeds; 6/2/00 to 6/30/00. Contact: (Steve Schaible)

EPA authorized the use of mancozeb on ginseng to control leaf and stem blight; 6/30/00 to 10/15/00. Contact: (Dan Rosenblatt)

EPA authorized the use of azoxystrobin on ginseng to control leaf and stem blight; 6/30/00 to 10/15/00. Contact: (Dan Rosenblatt)

EPA authorized the use of propamocarb hydrochloride on potatoes to control late blight; 7/13/00 to 7/13/01. Contact: (Libby Pemberton)

EPA authorized the use of chlorine dioxide on stored potatoes to control late blight; 8/31/00 to 8/31/01. Contact: (Andrew Ertman)

Wyoming

Department of Agriculture

Crisis. On 5/10/00, for the use of lambda-cyhalothrin on barley to control the Russian wheat aphid. This program ended on 7/31/00. Contact: (Andrew Ertman)

Specific. EPA authorized the use of lambda-cyhalothrin on barley to control the Russian wheat aphid; 5/10/00 to 7/31/00. Contact: (Andrew Ertman)

EPA authorized the use of imazamox on dry beans to control various nightshade species and velvetleaf; 6/1/00 to 7/15/00. Contact: Barbara Madden

EPA authorized the use of tetraconazole on sugarbeets to control Cercospora leafspot; 6/7/00 to 9/30/00. Contact: (David Deegan)

EPA authorized the use of imazapic-ammonium on pasture/rangeland (including land in the Conservation Reserve Program) to control leafy spurge and Dalmation toadflax; 8/1/00 to 12/31/00. Contact: (Libby Pemberton)

EPA authorized the use of coumaphos in beehives to control varroa mites and small hive beetles; 11/03/00 to 2/1/01. Contact: (Barbara Madden)

B. Federal Departments and Agencies

Agriculture Department

Animal and Plant Health Inspection Service

Crisis. On 8/29/00, for the use of methyl bromide on various imported commodities to control exotic plant pests. This program is expected to end on 2/28/01. Contact: (Libby Pemberton)

Quarantine. EPA authorized the use of sodium hypochlorite on grain elevators, silos, equipment, and surfaces to control Karnal bunt; 3/24/00 to 3/24/03. Contact: (David Deegan)

EPA authorized the use of carbaryl on flightless birds to control exotic ectoparasites; 4/18/00 to 4/18/03. Contact: (Andrew Ertman)

EPA authorized the use of quaternary ammonium compounds on field equipment to control witchweed and broomrape; 8/21/00 to 8/21/03. Contact: (Libby Pemberton)

List of Subjects

Environmental protection, Pesticides and pests.

Dated: December 8, 2000.
James Jones,
Director, Registration Division, Office of Pesticide Programs.

[FR Doc. 00-32154 Filed 12-19-00; 8:45 am]

BILLING CODE 6560-50-S